DEFENSE NUCLEAR FACILITIES SAFETY BOARD

Sunshine Act Meeting

Pursuant to the provision of the “Government in the Sunshine Act” (5 U.S.C. § 552b), notice is hereby given of the Defense Nuclear Facilities Safety Board's (Board) meeting described below.

TIME AND DATE OF MEETING: 6 p.m., February 9, 2000.

PLACE: Ambassador Hotel, Trinity Room, 3100 I-40 West, Amarillo, Texas.

STATUS: Open. While the Sunshine Act does not require that the scheduled discussion be conducted in a meeting, the Board has determined that an open meeting in this specific case furthers the public interests underlying both the Sunshine Act and the Board's enabling legislation.

MATTERS TO BE CONSIDERED: The Board is visiting the Pantex Plant as a part of its oversight of the Department of Energy's (DOE) defense nuclear facility safety management program. The Board's enabling legislation requires health and safety oversight encompassing design, construction, operation and decommissioning activities.

The Board wishes also to avail itself of the opportunity of this visit to meet with the stakeholders and local members of the public. The session is intended to be informal and to provide an opportunity for members of the public, DOE, and its contractor employees or their representatives to comment on or provide information directly to the Board regarding matters affecting health or safety at Pantex.

CONTACT PERSON FOR MORE INFORMATION: Richard A. Azzaro, General Counsel, Defense Nuclear Facilities Safety Board, 625 Indiana Avenue, NW., Suite 700, Washington, DC 20004, (800) 788-4016. This is a toll-free number.

Dated: January 24, 2000.
John T. Conway,
Chairman.

[FR Doc. 1966 Filed 1-24-00; 12:44 pm]

BILLING CODE 3670-01-M